DEPARTMENT OF STATE

Bureau of Diplomatic Security, Office of Foreign Missions, Diplomatic Motor Vehicles

[Public Notice 4178]

Notice of Information Collection Under Emergency Review: Forms DS-2003, DS-2004, DS-2005, DS-2006, DS-2007, DS-2008, U.S. Department of State's Notifications of Appointment, Change or Termination of Diplomatic, Consular or Foreign Government Employees; OMB Collection Numbers: 1405-0060; 1405-0061; 1405-0062; 1405-0064; 1405-0089; and 1405-0090

AGENCY: Department of State.

ACTION: Notice.

SUMMARY: The Department of State has submitted the following information collection request to the Office of Management and Budget (OMB) for review and approval in accordance with the emergency review procedures of the Paperwork Reduction Act of 1995.

Type of Request: Emergency Review.

Originating Office: DS/OFM.

Title of Information Collection: Notification of Appointment of Foreign Diplomatic and Career Consular Officer.

Frequency: As often as necessary to add a new person to a foreign mission roster.

Form Number: DS-2003.

Respondents: Foreign government representatives.

Estimated Number of Respondents: 2,000.

Average Hours Per Response: 25 minutes.

Total Estimated Burden: 850.

Title of Information Collection: Notification of Appointment of Foreign Government Employee.

Frequency: As often as necessary to add a new person to a foreign mission roster.

Form Number: DS-2004.

Respondents: Foreign government representatives.

Estimated Number of Respondents: 5,000.

Average Hours Per Response: 25 minutes.

Total Estimated Burden: 2,125.

Title of Information Collection: Notification of Appointment of Honorary Consular Officer.

Frequency: As often as necessary to add a new person to a foreign mission roster.

Form Number: DS-2005.

Respondents: Foreign government representatives.

Estimated Number of Respondents: 200.

Average Hours Per Response: 20 minutes.

Total Estimated Burden: 80.

Title of Information Collection: Notification of Change, Identification Card Request.

Frequency: As often as necessary to add a new person to a foreign mission roster.

Form Number: DS-2006.

Respondents: Foreign government representatives.

Estimated Number of Respondents: 5,000.

Average Hours Per Response: 9 minutes.

Total Estimated Burden: 600.

Title of Information Collection: Notification of Dependents of Diplomatic, Consular and Foreign Government Employees.

Frequency: As often as necessary to add a new person to a principal record.

Form Number: DS-2007.

Respondents: Foreign government representatives.

Estimated Number of Respondents: 7,000.

Average Hours Per Response: 10 minutes.

Total Estimated Burden: 840.

Title of Information Collection: Notification of Termination of Diplomatic, Consular or Foreign Government Employment.

Frequency: As often as necessary to terminate foreign mission members.

Form Number: DS-2008.

Respondents: Foreign government representatives.

Estimated Number of Respondents: 6,000.

Average Hours Per Response: 10 minutes.

Total Estimated Burden: 720.

The proposed information collection is published to obtain comments from the public and affected agencies. Emergency review and approval of this collection has been requested from OMB by November 15, 2002. If granted, the emergency approval is only valid for 180 days. Comments should be directed to the State Department Desk Officer, Office of Information and Regulatory Affairs, Office of Management and Budget (OMB), Washington, DC 20530, who may be reached on 202-395-3897.

During the first 60 days of this same period a regular review of this information collection is also being undertaken. Comments are encouraged and will be accepted until 60

Average Hours Per Response: 10 minutes.

Total Estimated Burden: 720.

The proposed information collection is published to obtain comments from the public and affected agencies. Emergency review and approval of this collection has been requested from OMB by November 15, 2002. If granted, the emergency approval is only valid for 180 days. Comments should be directed to the State Department Desk Officer, Office of Information and Regulatory Affairs, Office of Management and Budget (OMB), Washington, DC 20530, who may be reached on (202) 395-3897.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Jacqueline D. Robinson, U.S. Department of State, Office of Foreign Missions, Washington, DC 20520-3302, who may be reached on (202) 895-3532. Public comments and questions should be directed to the State Department Desk Officer, Office of Information and Regulatory Affairs, Office of Management and Budget (OMB), Washington, DC 20530, who may be reached on (202) 395-3897.

Dated: July 19, 2002.
Jacqueline D. Robinson,
Director, Accreditations & Diplomatic Motor Vehicles, Office of Foreign Missions, Department of State.

[FR Doc. 02-27353 Filed 11-13-02; 8:45 am]

BILLING CODE 4710-43-P